DEPARTMENT OF THE TREASURY

Proposed Collection; Comment Request

ACTION: Notice and request for comments.

SUMMARY: The Department of the Treasury, as part of its continuing efforts to reduce paperwork and respondent burden, invites the general public and other Federal agencies to take this opportunity to comment on proposed and/or continuing information collections, as required by the Paperwork Reduction Act of 1995, Public Law 104-13 (44 U.S.C. 3506(c)(2)(A)). Currently, the Market Room within the Department of the Treasury is soliciting comments concerning Revisions to Foreign Currency Forms FC-1 (OMB No. 1505-0012) Weekly Consolidated Foreign Currency Report of Major Market Participants, FC-2 (OMB No. 1505-0010) Monthly Consolidated Foreign Currency Report of Major Market Participants, and FC-3 (OMB No. 1505-0014) Quarterly Consolidated Foreign Currency Report. The reports are mandatory.

DATES: Written comments should be received on or before October 29, 2001 to be assured of consideration.

ADDRESSES: Direct all written comments to Director, Market Room, Department of the Treasury, 1500 Pennsylvania Avenue, NW., Room 2405, Washington, DC 20220, Telephone (202) 622-2650.

FOR FURTHER INFORMATION CONTACT: Requests for additional information or copies of the forms(s) and instructions should be directed to Director, Market Room, Department of the Treasury, 1500 Pennsylvania Avenue NW., Room 2405, Washington, DC 20220, Telephone (202) 622-2650, Fax 622-2021.

SUPPLEMENTARY INFORMATION: Title: Weekly Consolidated Foreign Currency Report of Major Market Participants, Foreign Currency Form FC-1.

OMB Number: 1505-0012.

Title: Monthly Consolidated Foreign Currency Report of Major Market Participants, Foreign Currency Form FC-2.

OMB Number: 1505-0010.

Title: Quarterly Consolidated Foreign Currency Report, Foreign Currency Form FC-3.

OMB Number: 1505-0014.

Abstract: Foreign Currency Forms FC-1, FC-2, and FC-3 are required by Public Law 93-110 (31 U.S.C. 5313 and 5321 (a)(3)), which directs the Secretary of the Treasury to prescribe regulations reports on foreign currency transactions conducted by a United States person or foreign person controlled by a United States person. The regulations governing forms FC-1, FC-2, and FC-3 are contained in Title 31 part 128 of the Code of Federal Regulations (31 CFR part 128) which were published in the Federal Register on November 2, 1993.

Current Actions: The proposed revisions in the forms and instructions are promoted by the replacement of the Germany mark by the hard Euro currency on January 1, 2002.

Type of Review: Revisions.

Affected Public: Business or other for-profit organizations.

Estimated Number of Respondents:

Foreign Currency Form FC-1: 35 respondents

Foreign Currency Form FC-2: 35 respondents

Foreign Currency Form FC-3: 66 respondents

Estimated Time Per Respondent:

Foreign Currency Form FC-1: One (1) hour per respondent per response.

Foreign Currency Form FC-2: Four (4) hours per respondent per response.

Foreign Currency Form FC-3: Eight (8) hours per respondent per response.

Estimated Total Annual Burden:

Hours:

Foreign Currency Form FC-1: 1,820 hours, based on 52 reporting periods per years.

Foreign Currency Form FC-2: 1,680 hours, based on 12 reporting period per year.

Foreign Currency Form FC-3: 2,112 hours, based on 4 reporting periods per year.

Request for Comments

Comments submitted in response to this notice will be summarized and/or included in the request for OMB approval. All comments will become a matter of public record. Comments are invited on: (1) Whether Foreign Currency Forms FC-1, FC-2, and FC-3 are necessary for the proper performance of the functions of the Department of the Treasury, including whether the information has practical uses; (b) the accuracy of the agency's estimate of the burden of the collection of information; (c) ways to enhance the quality, utility, and clarity of the information to be collected; and (d) ways to minimize the burden of the collection of information on respondents, including the use of automated collection techniques or other forms of information technology.

Timothy D. DuLaney,
Director, Market Room, U.S. Department of the Treasury.

[FR Doc. 01-21882 Filed 8-29-01; 8:45 am]

BILLING CODE 4810-25-M